Proclamation 8738 of October 14, 2011

National Forest Products Week, 2011

By the President of the United States of America

A Proclamation

America’s forests have long played an integral role in shaping and developing our Nation. They help us access clean water and air, drive discovery as natural laboratories, and make our communities more beautiful and vibrant places to live. From renewable energy and biofuels to green building materials, forests also provide a wide variety of products that make up an important part of our economy. During National Forest Products Week, we celebrate the value of our woodlands and recommit to careful stewardship and preservation of these national treasures.

Through the America’s Great Outdoors Initiative, my Administration continues to advance a 21st century conservation agenda and ensure we use our precious natural resources sustainably. Meeting the test of environmental stewardship often means finding the best ideas at the grassroots level, and this initiative is guided by the insights of Americans from across our country. From hunters and fishers to tribal leaders and young people, we all have a stake in safeguarding the woodlands we cherish. As we build the foundation for a smarter, more community-driven environmental strategy, we embrace the uniquely American idea that each of us has an equal share in the land around us and an equal responsibility to protect it.

This year, we also join the global community in commemorating the International Year of Forests. By bolstering our commitment to the responsible management and conservation of forests around the world, we sow the seeds of a greener future for our children and grandchildren.

To recognize the importance of products from our forests, the Congress, by Public Law 86-753 (36 U.S.C. 123), as amended, has designated the week beginning on the third Sunday in October of each year as “National Forest Products Week” and has authorized and requested the President to issue a proclamation in observance of this week.

NOW, THEREFORE, I, BARACK OBAMA, President of the United States of America, do hereby proclaim October 16 through October 22, 2011, as National Forest Products Week. I call on the people of the United States to join me in recognizing the dedicated individuals who are responsible for the stewardship of our forests and for the preservation, management, and use of these precious natural resources for the benefit of the American people.

IN WITNESS WHEREOF, I have hereunto set my hand this fourteenth day of October, in the year of our Lord two thousand eleven, and of the Independence of the United States of America the two hundred and thirty-sixth.

[FR Doc. 2011-27319

Filed 10-19-11; 8:45 am]

Billing code 3295-F2-P